FEDERAL COMMUNICATIONS COMMISSION

Notice of Public Information Collection(s) Being Reviewed by the Federal Communications Commission for Extension Under Delegated Authority; Comments Requested

January 11, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments March 19, 2002. If you anticipate that you will be submitting comments, but find it difficult to do so within the period of time allowed by this notice, you should advise the contact listed below as soon as possible.

ADDRESSES: Direct all comments to Judy Boley, Federal Communications Commission, 445 12th Street, SW, Room 1-C804, Washington, DC 20554 or via internet to jboley@fcc.gov.

FOR FURTHER INFORMATION CONTACT: For additional information or copies of the information collections contact Judy Boley at 202-418-0214 or via internet at jboley@fcc.gov.

SUPPLEMENTARY INFORMATION:

OMB Control No.: 3060-0997.

Title: 47 CFR Section 52.15(k), Numbering Utilization and Compliance Audit Program.

Form No.: N/A.

Type of Review: Extension of a currently approved collection.

Respondents: Business or Other for Profit.

Number of Respondents: 25.

Estimated Time Per Response: 33 hours per response (avg).

Total Annual Burden: 825 hours.

Estimated Annual Reporting and Recordkeeping Cost Burden: $0.

Frequency of Response: On occasion reporting requirement.

Needs and Uses: The state of the nation's numbering resources has a direct effect on the growth of competition in the telecommunications industry. The nation's numbering resources are depleting rapidly. Under the Communications Act of 1934, as amended by the Telecommunications Act of 1996, Congress granted the Federal Communications Commission

(FCC) exclusive jurisdiction over the United States' portion of the North American Numbering Plan (NANP). Consistent with this authority, the FCC adopted an audit requirement to preserve numbering resources. The purpose of the audits is to monitor telecommunications carriers' compliance with FCC rules and to verify the accuracy and validity of the numbering data submitted to the FCC. The audits will also allow the FCC to identify inefficiencies in the manner in which carriers use numbers, including excessive use of certain categories of numbers (e.g., administrative, aging, or intermediate numbers). By ensuring compliance with FCC rules and providing in-depth information, these audits will help preserve the nation's numbering resources. The FCC staff developed a standardized audit program consisting of audit procedures and guidelines, an internal control questionnaire, and a corresponding data request, for the independent auditor to follow in conducting audits. The independent auditor would conduct audits using these tools. The audit procedures generally require the audited carrier to respond to requests for information from the independent auditor. The independent auditor will report its audit findings to the FCC. The FCC will use the audit results to determine whether the audited carriers are complying with the FCC's rules, and whether the audited carriers' numbering data submitted to the FCC , e.g., FCC Form 502, is accurate and valid.

OMB Control No.: 3060-0814.

Title: Section 54.301, Local Switching Support and Local Switching Support Data Collection Form and Instructions.

Form No.: N/A.

Type of Review: Extension of a currently approved collection.

Respondents: Business or Other for Profit.

Number of Respondents: 197.

Estimated Time Per Response: 19.42 hours per response (avg).

Total Annual Burden: 3,787 hours.

Estimated Annual Reporting and Recordkeeping Cost Burden: $0.

Frequency of Response: On occasion and annual reporting requirement.

Needs and Uses: Pursuant to 47 CFR 54.301, each incumbent local exchange carrier that is not a member of the NECA common line tariff, that has been designated an eligible telecommunications carriers, and that serves a study area with 50,000 fewer access lines shall, for each study area, provide the Administrator with the projected total unseparated dollar amount assigned to each account in section 54.301(b). Average schedule companies are required to file information pursuant to 47 CFR section 54.301(f). Both respondents must provide true-up data. The data is necessary to calculate certain revenue requirement.

OMB Control No.: 3060-0169.

Title: Reports and Records of Communications Common Carriers and Affiliates—Sections 43.51 and 43.53.

Form No.: N/A.

Type of Review: Extension of a currently approved collection.

Respondents: Business or Other for Profit.

Number of Respondents: 374.

Estimated Time Per Response: 16.12 hours per response (avg).

Total Annual Burden: 6,029 hours.

Estimated Annual Reporting and Recordkeeping Cost Burden: $0.

Frequency of Response: On occasion and annual reporting requirement.

Needs and Uses: Sections 211 and 215 of the Communications Act of 1934, as amended, require that the FCC examine the transactions of any common carriers relating to the activities of that carrier which may affect the charges and/or services rendered under the Act. Sections 43.51 and 43.53 require common carriers to submit reports so that the FCC can monitor various activities of these carriers to determine the impact on the just and reasonable rates required by the Communications Act of 1934, as amended.

Federal Communications Commission.
Magalie Roman Salas,
Secretary.

[FR Doc. 02-1335 Filed 1-17-02; 8:45 am]

BILLING CODE 6712-01-P